DEPARTMENT OF ENERGY

Federal Energy Regulatory Commission

[Docket No. EL15-7-000]

Michigan Public Service Commission v. Midcontinent Independent System Operator, Inc.; Notice of Complaint

Take notice that on October 17, 2014, pursuant to Rule 206 of the Federal Energy Regulatory Commission's (Commission) Rules of Practice and Procedure, 18 CFR 385.206 and sections 206, 306, and 309 of the Federal Power Act, 16 U.S.C. 824e, 825e, and 825h, the Michigan Public Service Commission (Complainant), filed a formal complaint against Midcontinent Independent System Operator, Inc. (Respondent), alleging that the provision of the Respondent's Open Access Transmission, Energy and Operating Reserve Markets Tariff governing the allocation of System Support Resource costs within the American Transmission Company footprint are unjust and unreasonable.

The Complainant certifies that copies of the complaint were served on the contacts for the Respondent as listed in the Commission's list of Corporate Officials and on all Respondent parties in a related Docket No. ER14-2952-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 6, 2014.

Dated: October 21, 2014.
Kimberly D. Bose,
Secretary.

[FR Doc. 2014-25541 Filed 10-27-14; 8:45 am]

BILLING CODE 6717-01-P